DEPARTMENT OF THE INTERIOR

Fish and Wildlife Service

[FWS-R7-FHC-2014-N022; FF07CAMM00-FX-FR133707PB000]

Marine Mammals; Letters of Authorization to Take Pacific Walrus and Polar Bears, Beaufort and Chukchi Seas, Alaska

AGENCY: Fish and Wildlife Service, Interior.

ACTION: Notice of issuance.

SUMMARY: In accordance with the Marine Mammal Protection Act of 1972, as amended (MMPA), the U.S. Fish and Wildlife Service (Service) has issued letters of authorization for the nonlethal take of polar bears and Pacific walrus incidental to oil and gas industry exploration, development, and production activities in the Beaufort Sea and the adjacent northern coast of Alaska and incidental to oil and gas industry exploration activities in the Chukchi Sea and the adjacent western coast of Alaska. These letters of authorization stipulate conditions and methods that minimize impacts to polar bears and Pacific walrus from these activities.

FOR FURTHER INFORMATION CONTACT: Craig Perham at the U.S. Fish and Wildlife Service, Marine Mammals Management Office, 1011 East Tudor Road, MS 341, Anchorage, AK 99503; (800) 362-5148 or (907) 786-3810.

SUPPLEMENTARY INFORMATION: On August 3, 2011, we published in the Federal Register a final rule (76 FR 47010) establishing regulations that allow us to authorize the nonlethal, incidental, unintentional take of small numbers of polar bears and Pacific walrus during year-round oil and gas industry exploration, development, and production activities in the Beaufort Sea and adjacent northern coast of Alaska. The rule established subpart J in part 18 of title 50 of the Code of Federal Regulations (CFR) and is effective through August 3, 2016. The rule prescribed a process under which we issue Letters of Authorization (LOAs) to applicants conducting activities as described under the provisions of the regulations.

Each LOA stipulates conditions or methods that are specific to the activity and location. Holders of LOAs must use methods and conduct activities in a manner that minimizes to the greatest extent practicable adverse impacts on Pacific walrus and polar bears and their habitat, and on the availability of these marine mammals for subsistence purposes. Intentional take and lethal incidental take are prohibited.

In accordance with section 101(a)(5)(A) of the MMPA (16 U.S.C. 1361 et seq.) and our regulations at 50 CFR part 18, subpart J, we issued LOAs to each of the following companies in the Beaufort Sea and adjacent northern coast of Alaska:

Beaufort Sea Letters of Authorization
Company | Activity | Project | Date issued
Alyeska Pipeline Service Company | Production | Trans-Alaska Pipeline Operation & Maintenance | December 1, 2013.
BP Exploration Alaska, Inc. | Development | Liberty Development Project | March 18, 2013.
BP Exploration Alaska, Inc. | Exploration | Foggy Island Geotechnical Survey | July 3, 2013.
CGG Land US, Inc. | Exploration | Winter Seismic Survey | January 2, 2014.
ConocoPhillips Alaska, Inc. | Development | Alpine Drillsite Expansion | December 5, 2013.
ConocoPhillips Alaska, Inc. | Exploration | NPR-A Exploration | December 5, 2013.
Eni US Operating Co., Inc. | Production | Nikaitchuq Development Project | August 2, 2013.
ExxonMobil Production Company | Development | Point Thomson Project | February 1, 2013.
ExxonMobil Production Company | Development | Point Thomson Project | January 24, 2014.
Great Bear Petroleum, LLC | Exploration | Great Bear Exploration and Evaluation Program | September 30, 2013.
Olgoonik Development, LLC | Development | Camp Lonely Cleanup Project | April 17, 2013.
Olgoonik Fairweather, LLC | Exploration | Beaufort Sea Baseline Environmental Studies | August 1, 2013.
Olgoonik Fairweather, LLC | Exploration | Marine Fish Transboundary Cruise Environmental Studies Program | August 13, 2013.
Pioneer Natural Resources Alaska, Inc. | Development | Nuna Development Program | April 24, 2013.
Repsol E&P USA, Inc. | Exploration | Colville River Delta Winter Drilling | March 6, 2013.
Repsol E&P USA, Inc. | Exploration | Colville River Delta Winter Drilling | December 1, 2013.
SAExploration, Inc., LLC | Exploration | Colville River Delta 3-D Seismic Survey | July 1, 2013.
SAExploration, Inc., LLC | Exploration | North Slope Winter 3-D Seismic Survey | January 1, 2014.
Veritas | Exploration | Winter/Spring Dalton 3-D Seismic Survey | February 1, 2013.

On June 12, 2013, we published in the Federal Register a final rule (78 FR 35364) establishing regulations that allow us to authorize the nonlethal, incidental, unintentional take of small numbers of polar bears and Pacific walrus during year-round oil and gas industry exploration activities in the Chukchi Sea and adjacent western coast of Alaska. The rule established subpart I of 50 CFR part 18 and is effective until June 11, 2018. The process under which we issue LOAs to applicants and the requirements that the holders of LOAs must follow is the same as described above for LOAs issued under 50 CFR 18, subpart J.

In accordance with section 101(a)(5)(A) of the MMPA and our regulations at 50 CFR 18, subpart I, we issued LOAs to the following companies in the Chukchi Sea:

Chukchi Sea Letters of Authorization
Company | Activity | Project | Date issued
Olgoonik Fairweather, LLC | Exploration | Chukchi Sea Baseline Environmental Studies Program | August 1, 2013.
Shell Offshore, Inc. | Exploration | Chukchi Sea Open Water Marine Survey Program | June 28, 2013.
TGS | Exploration | 2-D Marine Seismic Survey | June 28, 2013.

Dated: March 21, 2014.
Geoffrey L. Haskett,
Regional Director, Alaska Region.

[FR Doc. 2014-06976 Filed 3-27-14; 8:45 am]

BILLING CODE 4310-55-P